DEPARTMENT OF THE INTERIOR

Fish and Wildlife Service

50 CFR Part 17

[Docket No. FWS-R2-ES-2023-0023; FF09E21000 FXES1111090FEDR 245]

RIN 1018-BH13

Endangered and Threatened Wildlife and Plants; Designation of Critical Habitat for Sacramento Mountains Checkerspot Butterfly

AGENCY: Fish and Wildlife Service, Interior.

ACTION: Proposed rule; reopening of comment period and announcement of public hearing.

SUMMARY: We, the U.S. Fish and Wildlife Service (Service), are reopening the public comment period on our August 10, 2023, proposed rule to designate critical habitat for the Sacramento Mountains checkerspot butterfly (Euphydryas anicia cloudcrofti), a butterfly from New Mexico, under the Endangered Species Act of 1973, as amended (Act). We are taking this action to conduct a public hearing and to allow all interested parties additional time to comment on the proposal to designate critical habitat for the Sacramento Mountains checkerspot butterfly. Comments previously submitted need not be resubmitted and will be fully considered in preparation of the final rule.

DATES:

Comment submission: The comment period on the proposed rule that published August 10, 2023 (88 FR 54263), is reopened. We will accept comments received or postmarked on or before December 27, 2023. Please note that comments submitted electronically using the Federal eRulemaking Portal (see ADDRESSES, below) must be received by 11:59 p.m. eastern time on the closing date to ensure consideration.

Public hearing: On December 12, 2023, we will hold a public hearing on the proposed critical habitat designation for the Sacramento Mountains checkerspot butterfly from 5 to 8 p.m., Mountain time, using the Zoom online platform (for more information, see Public Hearing, below).

ADDRESSES:

Availability of documents: You may obtain copies of the August 10, 2023, proposed rule and associated documents on the internet at https://www.regulations.gov under Docket No. FWS-R2-ES-2023-0023.

Written comments: You may submit comments by one of the following methods:

(1) Electronically: Go to the Federal eRulemaking Portal: https://www.regulations.gov. In the Search box, enter FWS-R2-ES-2023-0023, which is the docket number for the proposed rule. Then, click on the Search button. On the resulting page, in the panel on the left side of the screen, under the Document Type heading, check the Proposed Rule box to locate this document. You may submit a comment by clicking on “Comment.”

(2) By hard copy: Submit by U.S. mail to: Public Comments Processing, Attn: FWS-R2-ES-2023-0023, U.S. Fish and Wildlife Service, MS: PRB/3W, 5275 Leesburg Pike, Falls Church, VA 22041-3803.

We request that you send comments only by the methods described above. We will post all comments on https://www.regulations.gov. This generally means that we will post any personal information you provide us (see Public Comments, below, for more information).

FOR FURTHER INFORMATION CONTACT: Shawn Sartorius, Field Supervisor, U.S. Fish and Wildlife Service, New Mexico Ecological Services Field Office, 2105 Osuna Road NE, Albuquerque, NM 87113; telephone 505-346-2525. Individuals in the United States who are deaf, deafblind, hard of hearing, or have a speech disability may dial 711 (TTY, TDD, or TeleBraille) to access telecommunications relay services. Individuals outside the United States should use the relay services offered within their country to make international calls to the point-of-contact in the United States. Please see Docket No. FWS-R2-ES-2023-0023 on https://www.regulations.gov for a document that summarizes the August 10, 2023, proposed rule.

SUPPLEMENTARY INFORMATION:

Background

On August 10, 2023, we published a proposed rule (88 FR 54263) to designate critical habitat for the Sacramento Mountains checkerspot butterfly under the Act. The proposed rule opened a 60-day public comment period, ending October 10, 2023. During the open comment period, we received a request for a public hearing. Therefore, we are reopening the comment period and announcing a public hearing to allow the public an additional opportunity to provide comments on the proposed rule.

For a description of previous Federal actions concerning critical habitat for the Sacramento Mountains checkerspot butterfly and information on the types of comments that would be helpful to us in promulgating this rulemaking action, please refer to the August 10, 2023, proposed rule (88 FR 54263).

Public Hearing

We are holding a public hearing to accept comments on the proposed rule to designate critical habitat for the Sacramento Mountains checkerspot butterfly on the date and at the time listed in DATES. We are holding the public hearing via the Zoom online video platform and via teleconference so that participants can attend remotely. For security purposes, registration is required. All participants must register in order to listen and view the hearing via Zoom, listen to the hearing by telephone, or provide oral public comments at the public hearing by Zoom or telephone.

For information on how to register, or if you encounter problems joining Zoom the day of the meeting, visit https://www.fws.gov/office/new-mexico-ecological-services. Registrants will receive the Zoom link and the telephone number for the public hearing. If applicable, interested members of the public not familiar with the Zoom platform should view the Zoom video tutorials (https://support.zoom.us/hc/en-us/categories/200101697-Getting-Started-with-Zoom) prior to the public hearing.

The public hearing will provide interested parties an opportunity to present verbal testimony (formal, oral comments) regarding the August 10, 2023, proposed rule to designate critical habitat for the Sacramento Mountains checkerspot butterfly (88 FR 54263). The purpose of the public hearing is to provide a forum for accepting formal verbal testimony, which will then become part of the record for the proposed rule. In the event there is a large attendance, the time allotted for verbal testimony may be limited. Therefore, anyone wishing to provide verbal testimony at the public hearing is encouraged to provide a prepared written copy of their statement to us through the Federal eRulemaking Portal or U.S. mail (see ADDRESSES, above). There are no limits on the length of written comments submitted to us. Anyone wishing to provide verbal testimony at the public hearing must register before the hearing.

For information on how to register, visit https://www.fws.gov/office/new-mexico-ecological-services. The use of a virtual public hearing is consistent with our regulations at 50 CFR 424.16(c)(3).

Reasonable Accommodation

The Service is committed to providing access to the public hearing for all participants. Closed captioning will be available during the public hearing. Further, a full audio and video recording and transcript of the public hearing will be posted online at https://www.fws.gov/office/new-mexico-ecological-services after the hearing. Participants will also have access to live audio during the public hearing via their telephone or computer speakers. Persons with disabilities requiring reasonable accommodations to participate in the hearing should contact the person listed under FOR FURTHER INFORMATION CONTACT at least 5 business days prior to the date of the hearing to help ensure availability. An accessible version of the Service's public hearing presentation will also be posted online at https://www.fws.gov/office/new-mexico-ecological-services prior to the hearing (see DATES, above). See https://www.fws.gov/office/new-mexico-ecological-services for more information about reasonable accommodation.

Public Comments

If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing the proposed rule, will be available for public inspection on https://www.regulations.gov.

Authors

The primary authors of this proposed rule are the staff members of the Fish and Wildlife Service's Species Assessment Team and the New Mexico Ecological Services Field Office.

Authority

The authority for this action is the Endangered Species Act of 1973, as amended (16 U.S.C. 1531 et seq.).

Martha Williams,
Director, U.S. Fish and Wildlife Service.

[FR Doc. 2023-25597 Filed 11-24-23; 8:45 am]

BILLING CODE 4333-15-P